DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2002, there were six applications approved. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Public Law 101-508) and Part 158 of the Federal Aviation Regulations (14 CFR part 158). This notice is published pursuant to paragraph d of § 158.29.

PFC Applications Approved

Public Agency: City of Morgantown, West Virginia.

Application Number: 02-06-C-00-MGW.

Application Type: Impose and use a PFC.

PFC Level: $4.50.

Total PFC Revenue Approved in This Decision: $229,493.

Earliest Charge Effective Date: June 4, 2004.

Estimated Charge Expiration Date: March 1, 2008.

Classes of Air Carriers Not Required To Collect PFC's:

(1) Nonscheduled/on-demand air carriers; and (2) unscheduled Part 121 charter operators for hire to the general public.

Determination: Approved. Based on information submitted in the public agency's application, the FAA has determined that each proposed class accounts for less than 1 percent of the total annual enplanements at Morgantown Municipal Airport.

Brief Description of Projects Approved for Collection and Use:

Design and construct aircraft rescue and firefighting/snow equipment facility.

Acquire snow removal equipment (SRE).

Design and construct taxiway A extension.

Rotating beacon.

Safety area study, runway 18/36.

Master plan study.

Decision Date: April 3, 2002.

For Further Information Contact: Eleanor Schifflin, Eastern Region Airports Division, (718) 553-3354.

Public Agency: City of Colorado Springs, Colorado.

Application Number: 02-07-C-00-COS.

Application Type: Impose and use a PFC.

PFC Level: $3.00.

Total PFC Revenue Approved in this Decision: $7,566,700.

Earliest Charge Effective Date: September 1, 2003.

Estimated Charge Expiration Date: February 1, 2006.

Class of Air Carriers Not Required to Collect PFC's: None.

Brief Description of Projects Approved for Collection and Use:

Construct taxiway C from taxiway D to runway 12/30.

Construct vehicle service road.

Maintenance (snow removal) equipment storage facility.

Decision Date: April 3, 2002.

For Further Information Contact: Christopher J. Schaffer, Denver Airports District Office, (303) 342-1258.

Public Agency: Akron-Canton Regional Airport Authority, Akron, Ohio.

Application Number: 02-05-C-00-CAK.

Application Type: Impose and use a PFC.

PFC Level: $4.50.

Total PFC Revenue Approved in This Decision: $7,277,000.

Earliest Charge Effective Date: September 1, 2002.

Estimated Charge Expiration Date: November 1, 2006.

Class of Air Carriers Not Required To Collect PFC's: Air taxi/commercial operators.

Determination: Approved. Based on information submitted in the public agency's application, the FAA has determined that the proposed class accounts for less than 1 percent of the total annual enplanements at Akron-Canton Regional Airport.

Brief Description of Projects Approved for Collection and Use:

Property acquisition—Nickison.

Property acquisition—Lockhart.

Property acquisition—Tucker.

SRE—snow blower.

Passenger loading bridge.

Engine generator—backup power.

Runaway 5/23 overlay.

Entrance road rehabilitation.

SRE—high speed rotary broom.

Terminal baggage claim expansion.

Terminal expansion/rehabilitation.

Shift/extension runway 1/19 phase II: fill 19 end.

Property acquisition—Peters.

Passenger loading bridge II.

Brief Description of Projects Approved For Use:

Relocate Mt. Pleasant and Frank Roads.

Runway 1 extension.

Runway 19 threshold relocation.

Brief Description of Disapproved Project: Airport access improvement—Shuffel Road interchange.

Determination: The FAA has determined that the scope of the project describes the construction of an interchange that does not exclusively serve airport traffic as is required by paragraph 553(a)(3) of FAA Order 5100.38A, AIP Handbook (October 24, 1989). Therefore, this project does not meet the requirements of § 158.15(b).

Decision Date: April 4, 2002.

For Further Information Contact: Arlene B. Draper, Detroit Airports District Office, (734) 487-7287.

Public Agency: Airport Authority of Washoe County, Reno, Nevada.

Application Number: 02-05-C-00-RNO.

Application Type: Impose and use a PFC.

PFC Level: $3.00.

Total PFC Revenue Approved in This Decision: $6,734,192.

Earliest Charge Effective Date: February 1, 2003.

Estimated Charge Expiration Date: October 1, 2003.

Class of Air Carriers Not Required To Collect PFC's: Nonschedule/on-demand air carriers filing FAA Form 1800-31.

Determination: Approved. Based on information submitted in the public agency's application, the FAA has determinated that the proposed class accounts for less than 1 percent of the total annual enplanements at Reno/Tahoe International Airport.

Brief Description of Projects Approved for Collection and Use:

Replacement of flight and baggage information display system.

Airfield signage standardization (guidance signs)—phase 2.

Concourse escalator replacement.

Terminal lobby modernization.

800 Megahertz radio system.

Terminal apron reconstruction—phase 5A.

Decision Date: April 12, 2002.

For Further Information Contact: Marlys Vandervelde, San Francisco Airports District Office, (650) 876-2806.

Public Agency: Port of Oakland, Oakland, California.

Application Number: 02-11-C-00-OAK.

Application Type: Impose and use a PFC.

PFC Level: $4.50.

Total PFC Revenue Approved in this Decision: $7,000,000.

Earliest Charge Effective Date: October 1, 2003.

Estimated Charge Expiration Date: January 1, 2004.

Classes of Air Carriers Not Required to Collect PFC's: (1) Nonscheduled/on-demand air carriers filing FAA Form 1800-31; and (2) commuters or small certificated air carriers filing Department of Transportation Form 298-C T1 or E1.

Determination: Approved. Based on information submitted in the public agency's application, the FAA has determined that each proposed class accounts for less than 1 percent of the total annual enplanements at Oakland International Airport.

Brief Description of Project Approved for Collection and Use: Terminal One gate improvement.

Brief Description of Project Approved for use at a $3.00 PFC Level: Construct remote overnight aircraft parking apron.

Decision Date: April 16, 2002.

For Further Information Contact: Marlys Vendervelde, San Francisco Airports District Office, (650) 876-2806

.

Public Agency: City of Chicago, Department of Aviation, Chicago, Illinois.

Application Number: 02-09-C-00-MDW.

Application Type: Impose and use a PFC.

PFC Level: $3.00.

Total PFC Revenue Approved in This Decision: $181,326,845.

Earliest Charge Effective Date: October 1, 2045.

Estimated Charge Expiration Date: April 1, 2051.

Class of Air Carriers Not Required to Collect PFC'S: Air taxi operators.

Determination: Approved. Based on information submitted in the public agency's application, the FAA has determined that the proposed class accounts for less than 1 percent of the total annual enplanements at Chicago Midway Airport.

Brief Description of Projects Approved for Collection and Use:

Federal inspection services facility.

Replace visual approach slope indicator lights with precision approach path indicator lights.

North triangle ramp development.

West triangle ramp development.

Residential insulation 2002-2004.

Noise barrier extensions.

Airfield operations area gate and booth rehabilitation/reconfiguration.

Equipment acquisition 2002-2004: snow removal and security equipment.

Brief Description of Withdrawn Project: Obstruction removal.

Determination: This project was withdrawn by the public agency by letter dated April 4, 2002. Therefore, the FAA did not rule on this project in this Record of Decision.

Decision date: April 18, 2002.

For Further Information Contact: Philip M. Smithmeyer, Chicago Airports District Office, (847) 294-7335.

Amendments to PFC Approvals
Amendment No., City, State | Amendment approved date | Original approved net PFC revenue | Amended approved net PFC revenue | Original estimated charge exp. date | Amended estimated charge exp. date
00-03-C-01-INL, International Falls, MN * | 03/22/02 | $316,992 | $316,992 | 08/01/06 | 06/01/05
95-01-C-05-MKE, Milwaukee, WI | 03/26/02 | 22,745,277 | 21,780,797 | 04/01/99 | 04/01/99
95-03-C-04-MKE, Milwaukee, WI | 03/26/02 | 64,133,333 | 42,350,240 | 05/01/04 | 05/01/04
99-04-U-01-MKE, Milwaukee, WI | 03/26/02 | NA | NA | 05/01/04 | 05/01/04
00-05-U-01-MKE, Milwaukee, WI | 03/26/02 | NA | NA | 05/01/04 | 05/01/04
00-06-C-01-MKE, Milwaukee, WI | 03/26/02 | 22,667,375 | 88,029,494 | 07/01/06 | 12/01/11
00-01-C-01-FAY, Fayetteville, NC | 04/04/02 | 892,620 | 1,026,513 | 10/01/02 | 11/01/05
95-01-C-02-BFD, Lewis Run, PA | 04/08/02 | 285,366 | 288,090 | 05/01/03 | 05/01/03
99-04-C-01-bli, Bellingham, WA * | 04/23/02 | 1,400,000 | 1,400,000 | 03/01/04 | 06/01/03
98-03-C-01-LAN, Lansing, MI | 04/26/02 | 3,306,343 | 2,906,220 | 06/01/02 | 02/01/01
94-01-C-02-BUR, Burbank, CA | 04/30/02 | 32,989,000 | 33,330,107 | 09/01/97 | 09/01/97
96-02-U-01-BUR, Burbank, CA | 04/30/02 | NA | NA | 09/01/97 | 09/01/97
Note: The amendments denoted by an asterisk (*) include a change to the PFC level charged from $3.00 per enplaned passenger to $4.50 per enplaned passenger. For International Falls, MN, this change is effective on June 1, 2002. For Bellingham, WA, this change is effective on July 1, 2002.

Issued in Washington, DC, on May 31, 2002.
Barry Molar,
Manager, Airports Financial Assistance Division.

[FR Doc. 02-15142 Filed 6-14-02; 8:45 am]

BILLING CODE 4910-13-M